DEPARTMENT OF THE INTERIOR

Bureau of Land Management

[CO-14000-01-1610-DH]

Resource Management Plan Amendment

AGENCY: Bureau of Land Management, Glenwood Springs Field Office, Interior.

ACTION: Notice of Intent to Prepare an Environmental Impact Statement (EIS) to Amend the Glenwood Springs Field Office Resource Management Plan (RMP) and the White River Field Office RMP for the Roan Plateau Area.

SUMMARY: Pursuant to section 102(2)(C) of the National Environmental Policy Act of 1969 and section 202 of the Federal Land Policy and Management Act of 1976 and Bureau of Land Management (BLM) regulations in CFR 1610.2 and 1610.5-5. BLM intends to write an Environmental Impact Statement which will amend the RMP for the Glenwood Springs Field Office (GSFO) approved in January of 1984 and the White River Field Office RMP of 1997.

The planning area is northwest of the town of Rifle, Colorado. It generally includes all BLM managed public lands west of State Highway 13 and north of Interstate 70, east of Parachute Creek, and roughly south of the Garfield County Rio Blanco County line. The amendment will consider management changes to the on approximately 73,367 acres (68,447 surface and 4,455 sub-surface, including 4,455 surface/sub-surface acres within the White River Resource Area). Boundaries may be adjusted after the scoping phase of planning is completed.

The BLM proposes to develop a scientifically sound, community supported strategy for the management of the public lands in the Roan Plateau area. The EIS will be prepared using an inter-disciplinary approach to insure the integration of biological, social and environmental values. The disciplines of the preparers shall be appropriate to the scope and issues identified in the scoping process. The analysis for the amendment will be embodied with the analysis for the EIS.

The amendment will focus on the major needed land use allocation decisions including; oil and gas management, wilderness suitability, special area designations (Area of Critical Environmental Concern, Wilderness Study Area, etc.) and travel management. The amendment will also review and analyze the multiple of public land uses and resource issues as identified by scoping and necessary to develop a proactive integrated management strategy.

DATES: The BLM can best utilize your input if you submit written comments pertaining to management concerns; important social, economic and environmental values; resource use; resource development and resource protection before January 31, 2001. A public scoping meeting will be held from 3:30 p.m. to 7:30 p.m. on December 13, 2000 at the Rifle Fire Department, 1850 Railroad Ave in Rifle, Colorado 81650.

ADDRESSES: Comments should be sent to the Field Manager, Glenwood Springs Field Office, Bureau of Land Management, 50629 Highway 6 & 24, P.O. Box 1009, Glenwood Springs, CO 81602

FOR FURTHER INFORMATION CONTACT: Requests to be placed on a mailing list should be mailed to the address above. You can also telephone Brian Hopkins at (970) 947-2840 or e-mail him at bhopkins@co.blm.gov. Documents and maps relevant to the planning process will be available for public review at the Glenwood Springs Field Office and, as feasible, available on the Glenwood Springs Field Office website http://www.co.blm.gov/gsra/roanplateau.htm.

SUPPLEMENTARY INFORMATION: In November, 1997 Public Law 105-85 directed the transfer of jurisdiction of the area formally known as the (NOSR) from the Department of Energy (DOE) to the BLM. The transfer directed that the lands be managed in accordance with laws applicable to public lands, including Federal Land Policy and Management Act (FLPMA.).

BLM has been providing custodial surface management for some activities on the Naval Oil Shale Reserve (NOSR) for many years under a Memorandum of Understanding (MOU) with the Department of Energy. The formal transfer of the lands to the BLM has broadened BLM's overall management responsibilities and created the need to amend the RMPs for the GSFO and the WRFO. From a planning and public involvement standpoint it is efficient to include the identified adjacent lands in the planning process.

The foremost goal of the planning process is to ensure opportunities for the public to participate in the planning process. Individuals will have the opportunity to attend public meetings and field trips, write letters, telephone and meet with directly with the planning staff.

Anne Huebner,
Glenwood Springs Field Manager.

[FR Doc. 00-29402 Filed 11-15-00; 8:45 am]

BILLING CODE 4310-JB-P